DEPARTMENT OF LABOR

Employment and Training Administration

Workforce Innovation and Opportunity Act (WIOA) 2017; Lower Living Standard Income Level (LLSIL)

AGENCY: Employment and Training Administration (ETA), Labor.

ACTION: Notice.

SUMMARY: Title I of the Workforce Innovation and Opportunity Act (WIOA) requires the U.S. Secretary of Labor (Secretary) to update and publish the LLSIL tables annually, for uses described in the law (including determining eligibility for youth). WIOA defines the term “low income individual” as one who qualifies under various criteria, including an individual in a family with total family income for a six-month period that does not exceed the higher level of the poverty line or 70 percent of the LLSIL. This issuance provides the Secretary's annual LLSIL for 2017 and references the current 2017 Health and Human Services “Poverty Guidelines.”

DATES: This issuance is effective May 23, 2017.

For Further Information or Questions on LLSIL: Please contact Samuel Wright, Department of Labor, Employment and Training Administration, 200 Constitution Avenue NW., Room C-4526, Washington, DC 20210; Telephone: 202-693-2870; Fax: 202-693-3015 (these are not toll-free numbers); Email address: wright.samuel.e@dol.gov. Individuals with hearing or speech impairments may access the telephone number above via Text Telephone (TTY/TDD) by calling the toll-free Federal Information Relay Service at 1-877-889-5627 (TTY/TDD).

For Further Information Or Questions On Federal Youth Employment Programs: Please contact Sara Hastings, Department of Labor, Employment and Training Administration, 200 Constitution Avenue NW., Room N-4508, Washington, DC 20210; Telephone: 202-693-3377; Fax: 202-693-3599 (these are not toll-free numbers); Email:hastings.sara@dol.gov. Individuals with hearing or speech impairments may access the telephone number above via TTY by calling the toll-free Federal Information Relay Service at 1-877-889-5627 (TTY/TDD).

SUPPLEMENTARY INFORMATION: The purpose of WIOA (Pub. L. 113-128) is to provide workforce investment activities through statewide and local workforce investment systems that increase the employment, retention, and earnings of participants. WIOA programs are intended to increase the occupational skill attainment by participants and the quality of the workforce, thereby reducing welfare dependency and enhancing the productivity and competitiveness of the Nation.

LLSIL is used for several purposes under the WIOA. Specifically, WIOA SEC.3(36)(A)(B) defines the term “low income individual” for eligibility purposes, and SEC.127(b)(2)(c), SEC.132(b)(1)(B)(IV), (V)(bb) define the terms “disadvantaged youth” and “disadvantaged adult” in terms of the poverty line or LLSIL for State formula allotments. The governor and state/local workforce development boards (WDB) use the LLSIL for determining eligibility for youth and adults for certain services. ETA encourages governors and State/local boards to consult the WIOA Final Rule, for more specific guidance in applying LLSIL to program requirements. The U.S. Department of Health and Human Services (HHS) published the most current poverty-level guidelines in the Federal Register on January 31, 2017 (Volume 82, Number 19), pp. 8831-8832. The HHS 2017 Poverty guidelines may also be found on the Internet at https://aspe.hhs.gov/poverty-guidelines. ETA plans to have the 2017 LLSIL available on its Web site at http://www.doleta.gov/llsil.

WIOA Section 3(36)(B) defines LLSIL as “that income level (adjusted for regional, metropolitan, urban and rural differences and family size) determined annually by the Secretary [of Labor] based on the most recent lower living family budget issued by the Secretary.” The most recent lower living family budget was issued by the Secretary in fall 1981. The four-person urban family budget estimates, previously published by the U.S. Bureau of Labor Statistics (BLS), provided the basis for the Secretary to determine the LLSIL. BLS terminated the four-person family budget series in 1982, after publication of the fall 1981 estimates. Currently, BLS provides data to ETA, which ETA then uses to develop the LLSIL tables, as provided in the Appendices to this Federal Register notice.

ETA published the 2016 updates to the LLSIL in the Federal Register of March 25, 2016, at Vol. 81, No. 58 pp. 16217-16223. This notice updates the LLSIL to reflect cost of living increases for 2016, by calculating the percentage change in the most recent 2015 Consumer Price Index for All Urban Consumers (CPI-U) for an area to the 2016 CPI-U, and then applying this calculation to each of the March 25, 2016 LLSIL figures.

The updated figures for a four-person family are listed in Appendix A, Table 1, by region for both metropolitan and non-metropolitan areas. Numbers in all of the Appendix tables are rounded up to the nearest dollar. Since program eligibility for low-income individuals, “disadvantaged adults,” and “disadvantaged youth” may be determined by family income at 70 percent of the LLSIL, pursuant to WIOA Section 3(36)(A)(ii) and Section 3(36)(B), respectively, those figures are listed as well.

I. Jurisdictions

Jurisdictions included in the various regions, based generally on the Census Regions of the U.S. Department of Commerce, are as follows:

A. Northeast

Connecticut, Maine, Massachusetts, New Hampshire, New Jersey, New York, Pennsylvania,, Rhode Island, Vermont, Virgin Islands.

B. Midwest

Illinois, Indiana, Iowa, Kansas, Michigan, Minnesota, Missouri, Nebraska, North Dakota, Ohio, South Dakota, Wisconsin.

C. South

Alabama, American Samoa, Arkansas, Delaware, District of Columbia, Florida, Georgia, Northern Marianas, Oklahoma, Palau, Puerto Rico, South Carolina, Kentucky, Louisiana, Marshall Islands, Maryland, Micronesia, Mississippi, North Carolina, Tennessee, Texas, Virginia, West Virginia.

D. West

Arizona, California, Colorado, Idaho, Montana, Nevada, New Mexico, Oregon, Utah, Washington, Wyoming.

Additionally, separate figures have been provided for Alaska, Hawaii, and Guam as indicated in Appendix B, Table 2.

For Alaska, Hawaii, and Guam, the year 2017 figures were updated from the 2016 “State Index” based on the ratio of the urban change in the state (using Anchorage for Alaska and Honolulu for Hawaii and Guam) compared to the West regional metropolitan change, and then applying that index to the West regional metropolitan change.

Data on 23 selected Metropolitan Statistical Areas (MSAs) are also available. These are based on annual average CPI-U changes for a 12-month period ending in December 2016. The updated LLSIL figures for these MSAs and 70 percent of LLSIL are reported in Appendix C, Table 3.

Appendix D, Table 4 lists each of the various figures at 70 percent of the updated 2016 LLSIL for family sizes of one to six persons. Because Tables 1-3 only list the LLSIL for a family of four, Table 4 can be used to separately determine the LLSIL for families of between one and six persons. For families larger than six persons, an amount equal to the difference between the six-person and the five-person family income levels should be added to the six-person family income level for each additional person in the family. Where the poverty level for a particular family size is greater than the corresponding 70 percent of the LLSIL figure, the figure is shaded. On the ETA LLSIL Web site at http://www.doleta.gov/llsil, a modified Microsoft Excel version of Appendix D, Table 4, with the area names and the LLSILs, that are lower than the Poverty level at a given family size will be shaded; will be available. Appendix E, Table 5, indicates 100 percent of LLSIL for family sizes of one to six, and is used to determine self-sufficiency as noted at Section 3(36)(a)(ii) and Section 3 (36)(B), (C)(ii) in WIOA.

II. Use of These Data

Governors should designate the appropriate LLSILs for use within the State from Appendices A, B, and C, containing Tables 1 through 3. Appendices D and E, which contain Tables 4 and 5, which adjust a family of four figure for larger and smaller families, may be used with any LLSIL designated area. The governor's designation may be provided by disseminating information on MSAs and metropolitan and non-metropolitan areas within the state or it may involve further calculations. For example, the State of New Jersey may have four or more LLSIL figures for Northeast metropolitan, Northeast non-metropolitan, portions of the state in the New York City MSA, and those in the Philadelphia MSA. If a workforce investment area includes areas that would be covered by more than one LLSIL figure, the governor may determine which is to be used.

A state's policies and measures for the workforce investment system shall be accepted by the Secretary to the extent that they are consistent with WIOA and WIOA regulations.

III. Disclaimer on Statistical Uses

It should be noted that publication of these figures is only for the purpose of meeting the requirements specified by WIOA as defined in the law and regulations. BLS has not revised the lower living family budget since 1981, and has no plans to do so. The four-person urban family budget estimates series has been terminated. The CPI-U adjustments used to update LLSIL for this publication are not precisely comparable, most notably because certain tax items were included in the 1981 LLSIL, but are not in the CPI-U. Thus, these figures should not be used for any statistical purposes, and are valid only for those purposes under WIOA as defined in the law and regulations.

Appendix A

Table 1—Lower Living Standard Income Level (for a Family of Four Persons) by Region ¹
Region ¹ | 2017 adjusted LLSIL | 70 percent LLSIL
Northeast: ² |  |
Metro | $42,965 | $30,075
Non-Metro ³ | 42,370 | 29,659
Midwest: |  |
Metro | 37,679 | 26,376
Non-Metro | 36,312 | 25,418
South: |  |
Metro | 36,555 | 25,588
Non-Metro | 35,995 | 25,197
West: |  |
Metro | 42,033 | 29,423
Non-Metro ⁴ | 41,838 | 29,287
¹ For ease of use, these figures are rounded to the next highest dollar.
² Metropolitan area measures were calculated from the weighted average CPI-U's for city size classes A and B/C. Non-metropolitan area measures were calculated from the CPI-U's for city size class D.
³ Non-metropolitan area percent changes for the Northeast region are no longer available. The Non-metropolitan percent change was calculated using the U.S. average CPI-U for city size class D.
⁴ Non-metropolitan area percent changes for the West region are based on unpublished BLS data.

Appendix B

Table 2—Lower Living Standard Income Level (for a Family of Four Persons), for Alaska, Hawaii and Guam ¹
Region ¹ | 2017 adjusted LLSIL | 70 percent LLSIL
Alaska: |  |
Metro | $48,090 | $33,663
Non-Metro ² | 54,109 | 37,876
Hawaii, Guam: |  |
Metro | 53,638 | 37,547
Non-Metro ² | 57,765 | 40,436
¹ For ease of use, these figures are rounded to the next highest dollar.
² Non-Metropolitan percent changes for Alaska, Hawaii and Guam were calculated from the CPI-U's for all urban consumers for city size class D in the Western Region. Generally the non-metro areas LLSIL is lower than the LLSIL in metro areas. This year the non-metro area LLSIL incomes were larger because the change in CPI-U was smaller in the metro areas compared to the change in CPI-U in the non-metro areas of Alaska, Hawaii and Guam.

Appendix C

Table 3—Lower Living Standard Income Level (for a Family of Four Persons), for 23 selected MSAs ¹
Metropolitan Statistical Areas (MSAs) ¹ | 2017 adjusted LLSIL | 70 percent LLSIL
Anchorage, AK | $49,293 | $34,505
Atlanta, GA | 34,954 | 24,468
Boston-Brockton-Nashua, MA/NH/ME/CT | 46,026 | 32,218
Chicago-Gary-Kenosha, IL/IN/WI | 38,045 | 26,632
Cincinnati-Hamilton, OH/KY/IN | 36,945 | 25,862
Cleveland-Akron, OH | 37,876 | 26,513
Dallas-Ft. Worth, TX | 34,653 | 24,257
Denver-Boulder-Greeley, CO | 40,002 | 28,002
Detroit-Ann Arbor-Flint, MI | 35,765 | 25,035
Honolulu, HI | 54,603 | 38,222
Houston-Galveston-Brazoria, TX | 35,399 | 24,779
Kansas City, MO/KS | 35,441 | 24,808
Los Angeles-Riverside-Orange County, CA | 42,947 | 30,063
Milwaukee-Racine, WI | 36,926 | 25,848
Minneapolis-St. Paul, MN/WI | 37,533 | 26,273
New York-Northern NJ-Long Island, NY/NJ/CT/PA | 45,503 | 31,852
Philadelphia-Wilmington-Atlantic City, PA/NJ/DE/MD | 41,101 | 28,770
Pittsburgh, PA | 45,659 | 31,962
St. Louis, MO/IL | 34,834 | 24,384
San Diego, CA | 47,861 | 33,502
San Francisco-Oakland-San Jose, CA | 46,750 | 32,725
Seattle-Tacoma-Bremerton, WA | 46,008 | 32,206
Washington-Baltimore, DC/MD/VA/WV ² | 46,097 | 32,268
¹ For ease of use, these figures are rounded to the next highest dollar.
² Baltimore and Washington are calculated as a single metropolitan statistical area.

Appendix D

Table 4: 70 Percent of Updated 2016 Lower Living Standard Income Level (LLSIL), by Family Size

To use the 70 percent LLSIL value, where it is stipulated for the WIOA programs, begin by locating the region or metropolitan area where the program applicant resides. These are listed in Tables 1, 2 and 3. After locating the appropriate region or metropolitan statistical area, find the 70 percent LLSIL amount for that location. The 70 percent LLSIL figures are listed in the last column to the right on each of the three tables. These figures apply to a family of four. Larger and smaller family eligibility is based on a percentage of the family of four. To determine eligibility for other size families consult Table 4 and the instructions below.

To use Table 4, locate the 70 percent LLSIL value that applies to the individual's region or metropolitan area from Tables 1, 2 or 3. Find the same number in the “family of four” column of Table 4. Move left or right across that row to the size that corresponds to the individual's family unit. That figure is the maximum household income the individual is permitted in order to qualify as economically disadvantaged under the WIOA.

Where the HHS poverty level for a particular family size is greater than the corresponding LLSIL figure, the LLSIL figure appears in a shaded block. Individuals from these size families may consult the 2017 HHS poverty guidelines found on the Health and Human Services Web site at https://aspe.hhs.gov/poverty-guidelines to find the higher eligibility standard. Individuals from Alaska and Hawaii should consult the HHS guidelines for the generally higher poverty levels that apply in their States.

Appendix E

Table 5: Updated 2015 LLSIL (100 percent), by Family Size

To use the LLSIL to determine the minimum level for establishing self-sufficiency criteria at the State or local level, begin by locating the metropolitan area or region from Table 1, 2 or 3. Then locate the appropriate region or metropolitan statistical area and then find the 2017 adjusted LLSIL amount for that location. These figures apply to a family of four. Locate the corresponding number in the family of four in the column below. Move left or right across that row to the size that corresponds to the individual's family unit. That figure is the minimum figure that States must set for determining whether employment leads to self-sufficiency under WIOA programs.

Family of one | Family of two | Family of three | Family of four | Family of five | Family of six
12482 | 20455 | 28077 | 34653 | 40901 | 47828
12550 | 20560 | 28221 | 34834 | 41110 | 48072
12585 | 20626 | 28324 | 34954 | 41251 | 48239
12754 | 20895 | 28678 | 35399 | 41777 | 48857
12759 | 20914 | 28716 | 35441 | 41825 | 48915
12880 | 21102 | 28974 | 35765 | 42205 | 49354
12968 | 21245 | 29159 | 35995 | 42478 | 49676
13085 | 21425 | 29416 | 36312 | 42861 | 50123
13166 | 21573 | 29609 | 36555 | 43144 | 50459
13293 | 21789 | 29914 | 36926 | 43577 | 50962
13304 | 21806 | 29935 | 36945 | 43602 | 50989
13517 | 22150 | 30410 | 37533 | 44298 | 51804
13566 | 22237 | 30522 | 37679 | 44463 | 52008
13638 | 22357 | 30684 | 37876 | 44700 | 52270
13697 | 22456 | 30816 | 38045 | 44900 | 52513
14407 | 23609 | 32411 | 40002 | 47205 | 55209
14805 | 24255 | 33296 | 41101 | 48509 | 56723
15064 | 24688 | 33896 | 41838 | 49378 | 57750
15133 | 24800 | 34050 | 42033 | 49600 | 58014
15256 | 25008 | 34330 | 42370 | 50006 | 58471
15462 | 25339 | 34789 | 42947 | 50678 | 59275
15473 | 25359 | 34805 | 42965 | 50707 | 59295
16384 | 26853 | 36859 | 45503 | 53694 | 62805
16446 | 26950 | 36993 | 45659 | 53888 | 63018
16572 | 27160 | 37292 | 46026 | 54318 | 63518
16573 | 27148 | 37272 | 46008 | 54295 | 63495
16602 | 27207 | 37345 | 46097 | 54405 | 63627
16839 | 27592 | 37870 | 46750 | 55171 | 64526
17239 | 28240 | 38774 | 47861 | 56481 | 66057
17321 | 28376 | 38960 | 48090 | 56752 | 66376
17754 | 29093 | 39932 | 49293 | 58175 | 68026
19321 | 31650 | 43456 | 53638 | 63299 | 74032
19488 | 31925 | 43833 | 54109 | 63852 | 74670
19665 | 32218 | 44229 | 54603 | 64434 | 75363
20802 | 34090 | 46794 | 57765 | 68167 | 79719

Signed at Washington, DC, this 14 of April, 2017.
Byron Zuidema,
Deputy Assistant Secretary for Employment and Training Administration.

[FR Doc. 2017-10496 Filed 5-22-17; 8:45 am]

BILLING CODE 4510-FT-P